DEPARTMENT OF HOUSING AND URBAN DEVELOPMENT

[Docket No. FR-5280-N-34]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street, SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Rita, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: COAST GUARD: Commandant, United States Coast Guard, Attn: Jennifer Stomber, 2100 Second St., SW., Stop 7901, Washington, DC 20593; (202) 475-5609; GSA: Mr. Gordon Creed, Acting Deputy Assistant Commissioner, General Services Administration, Office of Property Disposal, 18th & F Streets, NW., Washington, DC 20405; (202) 501-0084; INTERIOR: Mr. Michael Wright, Acquisition & Property Management, Department of the Interior, 1849 C Street, NW., MS2603, Washington, DC 20240; (202) 208-5399; NAVY: Mrs. Mary Arndt, Acting Director, Department of the Navy, Real Estate Services, Naval Facilities Engineering Command, Washington Navy Yard, 1322 Patterson Ave., SE., Suite 1000, Washington, DC 20374-5065; (202) 685-9305; (These are not toll-free numbers).

Dated: August 27, 2009.
Mark R. Johnston,
Deputy Assistant Secretary for Special Needs.

Title V, Federal Surplus Property Program; Federal Register Report for 09/04/2009

Suitable/Available Properties

Building

Idaho

Bldg. CF-602,

Idaho National Lab,

Idaho Falls, ID 83415.

Landholding Agency: GSA.

Property Number: 54200920012.

Status: Excess.

GSA Number: 9-B-ID-569.

Comments: 4224 sq. ft., presence of asbestos/lead paint, off-site use only.

Bldg. ARA-617,

Idaho National Lab,

Idaho Falls, ID 83415.

Landholding Agency: GSA.

Property Number: 54200920013.

Status: Excess.

GSA Number: 9-B-ID-571.

Comments: 1631 sq. ft., needs repair, presence of asbestos/possible contamination, off-site use only.

Bldg. PBF-619,

Idaho National Lab,

Idaho Falls, ID 83415.

Landholding Agency: GSA.

Property Number: 54200920014.

Status: Excess.

GSA Number: 9-B-ID-568.

Comments: 5704 sq. ft., needs repair, presence of asbestos/lead paint, possible contamination, off-site use only.

Iowa

U.S. Army Reserve,

620 West 5th St.,

Garner, IA 50438.

Landholding Agency: GSA.

Property Number: 54200920017.

Status: Excess.

GSA Number: 7-D-IA-0510.

Comments: 5743 sq. ft., presence of lead paint, most recent use—offices/classrooms/storage, subject to existing easements.

U.S. Army Reserve Center,

904 W. Washington St.,

Mount Pleasant, IA 52641.

Landholding Agency: GSA.

Property Number: 54200920018.

Status: Excess.

GSA Number: 7-D-IA-0509.

Comments: Approx. 5811 sq. ft., presence of lead paint, most recent use—admin/maint/storage, license/easement, published incorrectly on 7/10/09.

Maine

3 Bldgs.,

Acadia National Park,

Hancock, ME.

Landholding Agency: Interior.

Property Number: 61200930005.

Status: Unutilized.

Directions: 82338, 82339, 82340.

Comments: 80/600/1480 sq. ft., off-site use only.

Montana

Raymond MT Property,

1559 Hwy 16 North,

Raymond, MT 59256.

Landholding Agency: GSA.

Property Number: 54200920019.

Status: Surplus.

GSA Number: 7-X-MT-630.

Comments: 650 sq. ft., most recent use—office, off-site use only.

Land

Texas

Bee Cave Natl. Guard Property,

408 St. Stephens School Rd.,

Austin, TX 78746.

Landholding Agency: GSA.

Property Number: 54200930007.

Status: Surplus.

GSA Number: 7-D-TX-1108.

Comments: 0.67 acres.

West Virginia

6 Tracts,

Matewan, WV.

Landholding Agency: GSA.

Property Number: 54200930008.

Status: Excess.

GSA Number: 4-D-WV-0556-1.

Directions: 1149, 1159, 1161, 1166, 1181, 1187.

Comments: 4.57 acres, subject to building restrictions.

Suitable/Unavailable Properties

Building

Arizona

Water Conservation Lab,

4331 E. Broadway Rd.,

Phoenix, AZ 85040.

Landholding Agency: GSA.

Property Number: 54200820013.

Status: Excess.

GSA Number: 9-A-AZ-846-1.

Comments: 11365 sq. ft. main bldg w/11 additional bldgs. & 66 paved parking spaces, easement restrictions, zoning issue.

Arkansas

Job Corps Center,

2020 Vance St.,

Little Rock, AR 72206.

Landholding Agency: GSA.

Property Number: 54200920003.

Status: Surplus.

GSA Number: 7-L-AR-0573.

Comments: 74,570 sq. ft., 6 bldgs. most recent use—office/residential.

California

Social Security Building,

505 North Court Street,

Visalia Co: Tulare, CA 93291.

Landholding Agency: GSA.

Property Number: 54200610010.

Status: Surplus.

GSA Number: 9-G-CA-1643.

Comments: 11,727 sq. ft., possible lead paint, most recent use—office.

Old Customs House,

12 Heffernan Ave.,

Calexico, CA 92231.

Landholding Agency: GSA.

Property Number: 54200710016.

Status: Surplus.

GSA Number: 9-G-CA-1658.

Comments: 16,108 sq. ft., possible asbestos/lead paint, zoned commercial, major repairs for long term use, historic building.

Defense Fuel Support Pt.,

Estero Bay Facility,

Morro Bay, CA 93442.

Landholding Agency: GSA.

Property Number: 54200810001.

Status: Surplus.

GSA Number: 9-N-CA-1606.

Comments: Former 10 acre fuel tank farm w/associated bldgs/pipelines/equipment, possible asbestos/PCBs.

Boyle Heights SSA Bldg.,

N. Breed St.,

Los Angeles, CA 90033.

Landholding Agency: GSA.

Property Number: 54200840010.

Status: Surplus.

GSA Number: 9-G-CA-1676.

Comments: 10,815 sq. ft., requires seismic strengthening to satisfy substantial life-safety criteria; expected lateral loads in structure rather high.

Indiana

Radio Tower,

Cannelton Locks & Dam,

Perry, IN.

Landholding Agency: GSA.

Property Number: 54200830020.

Status: Excess.

GSA Number: 1-D-IN-569E.

Comments: Tower/88 sq. ft. comm storage bldg., heavily wooded area.

John A. Bushemi USARC,

3510 W. 15th Ave.,

Gary, IN 46404.

Landholding Agency: GSA.

Property Number: 54200830027.

Status: Excess.

GSA Number: 1-D-IN-0602.

Comments: 18,689 sq. ft. admin bldg & 3780 sq. ft. maintenance bldg.

Maryland

Federal Office Building,

7550 Wisconsin Ave.,

Bethesda, MD 20814.

Landholding Agency: GSA.

Property Number: 54200920007.

Status: Surplus.

GSA Number: GMR-1101-1.

Comments: 100,000 sq. ft., 10-story, requires major renovation, limited parking.

Massachusetts

Federal Office Bldg.,

Main & Bridge St.,

Springfield, MA 01101.

Landholding Agency: GSA.

Property Number: 54200740002.

Status: Excess.

GSA Number: MA-6262-1.

Comments: 30,000 sq. ft., 27% occupied, recommend complete system upgrade.

Michigan

Social Security Bldg.,

929 Stevens Road,

Flint, MI 48503.

Landholding Agency: GSA.

Property Number: 54200720020.

Status: Excess.

GSA Number: 1-G-MI-822.

Comments: 10,283 sq. ft., most recent use—office.

Trenton Border Patrol Station,

23100 West Road,

Brownstown, MI 48183.

Landholding Agency: GSA.

Property Number: 54200910003.

Status: Excess.

GSA Number: 1-X-MI-828-1.

Comments: 3989 sq. ft., possible asbestos/lead paint, most recent use—office/storage.

Missouri

Federal Bldg/Courthouse,

339 Broadway St.,

Cape Girardeau, MO 63701.

Landholding Agency: GSA.

Property Number: 54200840013.

Status: Excess.

GSA Number: 7-G-MO-0673.

Comments: 47,867 sq. ft., possible asbestos/lead paint, needs maintenance & seismic upgrades, 30% occupied—tenants to relocate within 2 yrs.

Nebraska

Environmental Chemistry,

Branch Laboratory,

420 South 18th St.,

Omaha, NE 68102.

Landholding Agency: GSA.

Property Number: 54200810010.

Status: Excess.

GSA Number: 7-D-NE-532.

Comments: 11,250 sq. ft., needs repair, frequent basement flooding, requires large sump pumps, most recent use—laboratory.

New Hampshire

Federal Building,

719 Main St.,

Parcel ID: 424-124-78,

Laconia, NH 03246.

Landholding Agency: GSA.

Property Number: 54200920006.

Status: Excess.

GSA Number: 1-G-NH-0503.

Comments: 31,271 sq. ft., most recent use—office bldg., National Register nomination pending.

New Jersey

Camp Pedricktown Sup. Facility,

U.S. Route 130,

Pedricktown, NJ 08067.

Landholding Agency: GSA.

Property Number: 54200740005.

Status: Excess.

GSA Number: 1-D-NJ-0662.

Comments: 21 bldgs., need rehab, most recent use—barracks/mess hall/garages/quarters/admin., may be issues w/right of entry, utilities privately controlled, contaminants.

New York

Fleet Mgmt. Center,

5-32nd Street,

Brooklyn, NY 11232.

Landholding Agency: GSA.

Property Number: 54200620015.

Status: Surplus.

GSA Number: 1-G-NY-0872B.

Comments: 12,693 sq. ft., most recent use—motor pool, heavy industrial.

Federal Building,

Brinkerhoff/Margaret Streets,

Plattsburgh, NY 12901.

Landholding Agency: GSA.

Property Number: 54200820005.

Status: Surplus.

GSA Number: 1-G-NY-0898-1A.

Comments: 13,833 sq. ft., eligible for National Register of Historic Places w/National Ranking of 5, most recent use—office, Federal tenants to relocate in August 2008.

Agriculture Inspection Station,

193 Meridan Road,

Champlain, NY 12919.

Landholding Agency: GSA.

Property Number: 54200910004.

Status: Excess.

GSA Number: 1-G-NY-0950-1.

Comments: 2869 sq. ft., possible asbestos/lead paint.

North Carolina

USCG Station Bldgs.,

Cape Hatteras,

Buxton Co: Dare, NC.

Landholding Agency: GSA.

Property Number: 54200720002.

Status: Excess.

GSA Number: 4-U-ND-0747A.

Comments: 5 bldgs./11 Other structures, contamination.

North Dakota

North House,

10951 County Road,

Hannah Co: Cavalier, ND 58239.

Landholding Agency: GSA.

Property Number: 54200720008.

Status: Surplus.

GSA Number: 7-X-ND-0515-1A.

Comments: 1128 sq. ft. residence, off-site use only.

South House,

10949 County Road,

Hannah Co: Cavalier, ND 58239.

Landholding Agency: GSA.

Property Number: 54200720009.

Status: Surplus.

GSA Number: 7-X-ND-0515-1B.

Comments: 1128 sq. ft. residence, off-site use only.

North House,

Highway 40,

Noonan Co: Divide, ND 58765.

Landholding Agency: GSA.

Property Number: 54200720010.

Status: Surplus.

GSA Number: 7-X-ND-0517-1A.

Comments: 1564 sq. ft. residence, off-site use only.

South House,

Highway 40,

Noonan Co: Divide, ND 58765.

Landholding Agency: GSA.

Property Number: 54200720011.

Status: Surplus.

GSA Number: 7-X-ND-0517-1B.

Comments: 1564 sq. ft. residence, off-site use only.

North Dakota

North House,

Rt. 1, Box 66,

Sarles Co: Cavalier, ND 58372.

Landholding Agency: GSA.

Property Number: 54200720012.

Status: Surplus.

GSA Number: 7-X-ND-0516-1B.

Comments: 1228 sq. ft. residence, off-site use only.

South House,

Rt. 1, Box 67,

Sarles Co: Cavalier, ND 58372.

Landholding Agency: GSA.

Property Number: 54200720013.

Status: Surplus.

GSA Number: 7-X-ND-0516-1A.

Comments: 1228 sq. ft. residence, off-site use only.

House #1,

10925 Hwy 28,

Sherwood Co: Renville, ND 58782.

Landholding Agency: GSA.

Property Number: 54200720014.

Status: Surplus.

GSA Number: 7-X-ND-0518-1B.

Comments: 1228 sq. ft. residence, off-site use only.

House #2,

10927 Hwy 28,

Sherwood Co: Renville, ND 58782.

Landholding Agency: GSA.

Property Number: 54200720015.

Status: Surplus.

GSA Number: 7-X-ND-0518-1A.

Comments: 1228 sq. ft. residence, off-site use only.

North House,

10913 Hwy 83,

Westhope Co: Bottineau, ND 58793.

Landholding Agency: GSA.

Property Number: 54200720016.

Status: Surplus.

GSA Number: 7-X-ND-0519-1B.

Comments: 1218 sq. ft. residence, off-site use only.

South House,

10909 Hwy 83,

Westhope Co: Bottineau, ND 58793.

Landholding Agency: GSA.

Property Number: 54200720017.

Status: Surplus.

GSA Number: 7-X-ND-0519-1A.

Comments: 1218 sq. ft. residence, off-site use only.

Ohio

NIKE Site Cd-46,

Felicity, OH.

Landholding Agency: GSA.

Property Number: 31200740015.

Status: Excess.

GSA Number: 1-D-OH-0832.

Comments: 8 bldgs., most recent use—Ohio Air Natl. Guard site.

PFC Joe R. Hastings Army Reserve Center,

3120 Parkway Dr.,

Canton, OH 44708.

Landholding Agency: GSA.

Property Number: 54200840008.

Status: Excess.

GSA Number: 1-D-OH-835.

Comments: 27,603 sq.ft./admin bldg. & vehicle maint. bldg., presence of asbestos/lead paint/radon/PCBs.

Oregon

3 Bldgs./Land,

OTHR-B Radar,

Cty Rd 514,

Christmas Valley, OR 97641.

Landholding Agency: GSA.

Property Number: 54200840003.

Status: Excess.

GSA Number: 9-D-OR-0768.

Comments: 14,000 sq. ft. each/2626 acres, most recent use—radar site, right-of-way.

U.S. Customs House,

220 NW. 8th Ave.,

Portland, OR.

Landholding Agency: GSA.

Property Number: 54200840004.

Status: Excess.

GSA Number: 9-D-OR-0733.

Comments: 100,698 sq. ft., historical property/National Register, most recent use—office, needs to be brought up to meet earthquake code and local bldg codes, presence of asbestos/lead paint.

Rhode Island

Former SSA Bldg.,

Broad & Exchange Streets,

Pawtucket, RI.

Landholding Agency: GSA.

Property Number: 54200920008.

Status: Excess.

GSA Number: 1-G-RI-0518.

Comments: 6254 sq. ft., most recent use—office.

Tennessee

NOAA Admin. Bldg.,

456 S. Illinois Ave.,

Oak Ridge, TN 38730.

Landholding Agency: GSA.

Property Number: 54200920015.

Status: Excess.

GSA Number: 4-B-TN-0664-AA.

Comments: 15,955 sq. ft., most recent use—office/storage/lab.

Texas

Bldgs. 5, 6, 7, Federal Center,

501 West Felix Street,

Ft. Worth Co: Tarrant, TX 76115.

Landholding Agency: GSA.

Property Number: 54200640002.

Status: Excess.

GSA Number: 7-G-TX-0767-3.

Comments: 3 warehouses with concrete foundation, off-site use only.

Border Patrol Station,

Sanderson, TX 79843.

Landholding Agency: GSA.

Property Number: 54200910006.

Status: Excess.

GSA Number: 7-X-TX-1097.

Comments: 1500 sq. ft., most recent use—office/garage.

Washington

Blaine Parking Lot,

SR 543,

Blaine, WA 98230.

Landholding Agency: GSA.

Property Number: 54200830028.

Status: Excess.

GSA Number: 9-G-WA-1242.

Comments: 2665 sq. ft., border crossing.

Land

Arizona

Parking Lot,

322 N. 2nd Ave.,

Phoenix, AZ 85003.

Landholding Agency: GSA.

Property Number: 54200740007.

Status: Surplus.

GSA Number: AZ-6293-1.

Comments: Approx. 21,000 sq. ft., parcel in OU3 study area for clean-up.

SRP Ditch,

24th St. & Jones Ave.,

Phoenix, AZ 85040.

Landholding Agency: GSA.

Property Number: 54200840001.

Status: Surplus.

GSA Number: AZ-0849-AA.

Comments: Approx. 4131 sq. ft. unimproved land, floodplain.

Salt River Project,

Pecos/Alma School Road,

#USBR-08-020,

Chander, AZ 85225.

Landholding Agency: GSA.

Property Number: 54200920001.

Status: Surplus.

GSA Number: 9-I-AZ-0850.

Comments: Approx. 34,183 sq. ft., ranges from 10-20 ft. wide, very long and narrow.

California

Tract 1607,

Lake Sonoma,

Rockpile Rd.,

Geyserville, CA 85746.

Landholding Agency: GSA.

Property Number: 54200840011.

Status: Surplus.

GSA Number: 9-GR-CA-1504.

Comments: Approx. 139 acres, northern portion not accessible because of steep slopes, rare manzanita species.

Connecticut

MYQ Outer Marker Facility,

Enfield, CT 06082.

Landholding Agency: GSA.

Property Number: 54200920004.

Status: Surplus.

GSA Number: 1-U-CT-0561-1A.

Comments: 0.341 acres, only accessible via right of way easement.

Massachusetts

FAA Site,

Massasoit Bridge Rd.,

Nantucket, MA 02554.

Landholding Agency: GSA.

Property Number: 54200830026.

Status: Surplus.

GSA Number: MA-0895.

Comments: Approx. 92 acres, entire parcel within MA Division of Fisheries & Wildlife Natural Heritage & Endangered Species Program.

FAA Locator Antenna LOM,

Coleman Road,

Southampton, MA 01073.

Landholding Agency: GSA.

Property Number: 54200920005.

Status: Excess.

GSA Number: MA-0913-AA.

Comments: 1.41 acres.

Michigan

Former Elf Comm. Facility,

3041 County Road,

Republic, MI 49879.

Landholding Agency: GSA.

Property Number: 54200840012.

Status: Excess.

GSA Number: 1-N-MI-0827.

Comments: 6.69 acres w/transmiter bldg, support bldg., gatehouse, endangered species.

Oregon

20 acres,

Cow Hollow Park,

Nyssa, OR 97913.

Landholding Agency: GSA.

Property Number: 54200820007.

Status: Excess.

GSA Number: 9-I-OR-769.

Comments: 20 acres w/shower/restroom, eligible for listing on Historic Register.

Pennsylvania

Approx. 16.88,

271 Sterrettania Rd.,

Erie, PA 16506.

Landholding Agency: GSA.

Property Number: 54200820011.

Status: Surplus.

GSA Number: 4-D-PA-0810.

Comments: Vacant land.

Texas

FAA Outer Marker 18 R/L VYN,

1420 Lakeside Pkwy,

Flower Mound, TX 75028.

Landholding Agency: GSA.

Property Number: 54200820017.

Status: Surplus.

GSA Number: 7-U-TX-1090.

Comments: 1.428 acres, radar facility, published incorrectly on 8/15/08 as available.

Unsuitable Properties

Building

California

Tract 114-04,

Santa Monica NRA,

Agoura, CA 91301.

Landholding Agency: Interior.

Property Number: 61200930007.

Status: Unutilized.

Reasons: Extensive deterioration.

Trailers 4, 5, 6, 7, 9, 11, 12,

National Park,

Death Valley, CA 92328.

Landholding Agency: Interior.

Property Number: 61200930008.

Status: Unutilized.

Reasons: Extensive deterioration.

Connecticut

Boathouse,

USCG Academy,

New London, CT 06320.

Landholding Agency: Coast Guard.

Property Number: 88200930001.

Status: Unutilized.

Reasons: Secured Area. Extensive deterioration.

Florida

Tracts 105-45, 107-04,

Timucuan Eco & Historic,

Preservation,

Jacksonville, FL.

Landholding Agency: Interior.

Property Number: 61200930009.

Status: Excess.

Reasons: Extensive deterioration.

Maine

3 Bldgs.,

Acadia National Park,

Hancock, ME.

Landholding Agency: Interior.

Property Number: 61200930006.

Status: Unutilized.

Directions: 82390, 101723, 101724.

Reasons: Extensive deterioration.

New York

Bldg. 53-A,

Naval Support Unit,

Saratoga Springs, NY 12866.

Landholding Agency: Navy.

Property Number: 77200930013.

Status: Excess.

Reasons: Secured Area.

Tennessee

Bldg. 35801000,

Fort Donelson National,

Battlefield,

Dover, TN 37058.

Landholding Agency: Interior.

Property Number: 61200930010.

Status: Unutilized.

Reasons: Extensive deterioration.

Texas

Excell Helium Plant,

Masterson, TX 79058.

Landholding Agency: GSA.

Property Number: 54200930006.

Status: Surplus.

GSA Number: 7-D-TX-772.

Reasons: Extensive deterioration.

Texas

Bldgs. HB046, 0074,

LBJ Natl Historic Park,

Stonewall, TX 78671.

Landholding Agency: Interior.

Property Number: 61200930011.

Status: Excess.

Reasons: Extensive deterioration.

Tracts 01-101, 01-104,

LBJ Natl. Historic Park,

Johnson City, TX 78636.

Landholding Agency: Interior.

Property Number: 61200930012.

Status: Unutilized.

Reasons: Extensive deterioration.

Land

Florida

Encroachment #34,

Gulf Intracoastal Waterway,

Perdido Key, FL.

Landholding Agency: GSA.

Property Number: 54200920016.

Status: Excess.

GSA Number: 4-D-FL-1223-AC.

Reasons: Floodway. Not accessible by road.

[FR Doc. E9-21605 Filed 9-3-09; 8:45 am]

BILLING CODE 4210-67-P